DEPARTMENT OF COMMERCE

Foreign-Trade Zones Board

(Docket 25-2005)

Foreign-Trade Zone 18 - Application for Subzone, Correction

The Federal Register notice (70 FR 31420-31421, 6/1/05), describing the application by the City of San Jose, grantee of FTZ 18, requesting subzone status for Space Systems/Loral, Inc. located in Palo Alto, Menlo Park and Mountain View, California, is corrected as follows.

The U.S. Department of Commerce Export Assistance Center, where the application is available for public review, is located at 152 N. Third Street, Suite 550, San Jose, California 95112.

Comments on the application may be submitted to the Foreign-Trade Zones Board, U.S. Department of Commerce, FCB-Suite 4100W, 1401 Constitution Avenue, NW, Washington, DC 20230, through August 1, 2005.

Dated: June 9, 2005.
Dennis Puccinelli,
Executive Secretary.

[FR Doc. 05-12583 Filed 6-23-05; 8:45 am]

BILLING CODE 3510-DS-S